Title 3—

The President

Proclamation 9730 of April 27, 2018

National Small Business Week, 2018

By the President of the United States of America

A Proclamation

During Small Business Week, we recognize the ingenuity of the American spirit and the renewed promise of the American Dream. America is a country of innovators, entrepreneurs, and builders. Our Nation's strength is derived from our people's initiative and desire to create a better tomorrow for our country through hard work and determination.

Small businesses are at the heart of our Nation. Our country's 30 million small businesses employ nearly 58 million Americans—48 percent of the labor force. Each year, small businesses create two-out-of-three net new, private-sector jobs in the United States. For this reason, my Administration worked with the Congress to enact a tax relief plan that provides small businesses with hundreds of billions in additional tax cuts. Moreover, we remain focused on eliminating unnecessary and unduly burdensome regulations, which hurt hardworking Americans. Across the Nation, we are enabling entrepreneurs to invest more of their time and hard-earned profits into growing their businesses and delivering better value for American consumers.

As we usher in a new era of American prosperity, my Administration will continue to implement a pro-growth agenda based on policies that champion small business creation and growth, giving more Americans the opportunity to start, scale, and succeed in businesses of their own. We will ensure trade deals are fair and reciprocal, cutting the barriers that prevent American producers from selling their products abroad. We are protecting our economic interests and intellectual property by investing in our Nation's cybersecurity, making sure our workforce has the education, skills, and training that small business owners demand, and investing in our country's infrastructure to improve productivity and the ability to transport goods and services.

This week, we celebrate all the entrepreneurs who have taken a risk to start and grow a small business. They are driven by a belief that they can do something better, smarter, and more efficient than what has been done before. They make our neighborhoods vibrant places to live and work. They invest in their neighbors and employ millions of Americans. When they succeed, we all succeed.

NOW, THEREFORE, I, DONALD J. TRUMP, President of the United States of America, by virtue of the authority vested in me by the Constitution and the laws of the United States, do hereby proclaim April 29 through May 5, 2018, as Small Business Week. I call upon all Americans to recognize the critical contributions of America's entrepreneurs and small business owners as they grow our Nation's economy.

IN WITNESS WHEREOF, I have hereunto set my hand this twenty-seventh day of April, in the year of our Lord two thousand eighteen, and of the Independence of the United States of America the two hundred and forty-second.

[FR Doc. 2018-09471

Filed 5-1-18; 11:15 am]

Billing code 3295-F8-P